DEPARTMENT OF THE INTERIOR

National Park Service

[N6409; NPS-WASO-NAGPRA-NPS0040803; PPWOCRADN0-PCU00RP14.R50000]

Notice of Intended Disposition: U.S. Department of the Interior, Bureau of Land Management, Winnemucca, NV

AGENCY: National Park Service, Interior.

ACTION: Notice.

SUMMARY: In accordance with the Native American Graves Protection and Repatriation Act (NAGPRA), the U.S. Department of the Interior, Bureau of Land Management (BLM) intends to carry out the disposition of human remains removed from Federal or Tribal lands to the lineal descendants, Indian Tribe, or Native Hawaiian organization with priority for disposition in this notice.

DATES: Disposition of the human remains in this notice may occur on or after September 15, 2025. If no claim for disposition is received by August 14, 2026, the human remains in this notice will become unclaimed human remains.

ADDRESSES: Send written claims for disposition of the human remains in this notice to Erin Gillett, Bureau of Land Management, 5100 E Winnemucca Boulevard, Winnemucca, NV 89445, email edgillett@blm.gov.

SUPPLEMENTARY INFORMATION: This notice is published as part of the National Park Service's administrative responsibilities under NAGPRA. The determinations in this notice are the sole responsibility of the BLM and additional information on the human remains in this notice, including the results of consultation, can be found in the related records. The National Park Service is not responsible for the identifications in this notice.

Abstract of Information Available

Based on the information available, human remains representing, at least, one individual have been reasonably identified. On July 17, 2004 at approximately 1300 hrs. a member of the public was camping in the vicinity of Lost Creek Road in Washoe County (original report had a clerical error of “Lone Creek Road”). As the individual was walking along a dry creek bed, they noticed a white object embedded in the sand. The individual returned and used a shovel to move the sand and observed human skeletal remains. After discovery, they left the remains and returned home.

On July 20, 2004, the individual returned to the location with family members and called the Washoe County Sheriff's Office (WCSO) to report the discovered remains. Sergeant Peterson of Search and Rescue was notified of the remains at approximately 1130 hrs. Sgt. Peterson contacted Deputy Tracy Bloom of the WCSO Gerlach substation. At 1300 hrs. Deputy Bloom and Deputy Phil Condon arrived at the location and secured the area.

Investigator/Deputy Washoe County Coroner Marika Morris was notified of the remains at 1340 hrs. and arrived at the location at 1620 hrs. Detective Kathleen Bishop and FIS Investigators Dean Kaumans and Shane Billau also arrived at the location.

During investigation a skull was found partially buried in sand with the exposed right side exhibiting fracturing. The site was excavated by Dean Kaumans and Shane Billau. Upon excavation, a skull, lower jaw, various long bones, ribs and phalangeal bones were recovered. The remains were removed from their position in a block of sand at approximately 2100hrs. and wrapped in black plastic. The excavated sand was sifted, and various bone fragments and teeth were recovered.

The remains were transported by Deputy Coroner Marika Morris to the Washoe County Coroner's Office under WCSO Case #04-8364. The remains were examined on July 21, 2004 by Alane Olson, M.D.

Dr. Olson's opinions of the remains were that they appear to be those of an indigenous young female. No cultural affiliation of these ancestral remains were determined at that time. Dr. Olson recommended that examination by a qualified anthropologist was warranted.

On October 5, 2004, Vernon McCarty the Washoe County Coroner, after finding that no party was available to take custody of the remains, released them to California State University, Chico for anatomic donation.

In 2022 California State University, Chico, notified the Winnemucca District Office (WDO) that the recovered ancestral remains had unknowingly been located on BLM managed lands and that they intended to transfer custody back to the BLM. Following the chain of custody, WCSO passed custody of these ancestral remains to the BLM on April 5, 2022.

Determinations

The BLM has determined that:

• The human remains described in this notice represent the physical remains of one individual of Native American ancestry.

• The Alturas Indian Rancheria, California; Big Pine Paiute Tribe of the Owens Valley; Bishop Paiute Tribe; Bridgeport Indian Colony; Burns Paiute Tribe; Cedarville Rancheria, California; Confederated Tribes of the Warm Springs Reservation of Oregon; Fort Bidwell Indian Community of the Fort Bidwell Reservation of California; Fort Independence Indian Community of Paiute Indians of the Fort Independence Reservation, California; Fort McDermitt Paiute and Shoshone Tribes of the Fort McDermitt Indian Reservation, Nevada and Oregon; Klamath Tribes; Lone Pine Paiute-Shoshone Tribe; Lovelock Paiute Tribe of the Lovelock Indian Colony, Nevada; Paiute-Shoshone Tribe of the Fallon Reservation and Colony, Nevada; Pit River Tribe, California (includes XL Ranch, Big Bend, Likely, Lookout, Montgomery Creek, and Roaring Creek Rancherias); Pyramid Lake Paiute Tribe of the Pyramid Lake Reservation, Nevada; Reno-Sparks Indian Colony, Nevada; Shoshone-Paiute Tribes of the Duck Valley Reservation, Nevada; Summit Lake Paiute Tribe of Nevada; Susanville Indian Rancheria, California; Te-Moak Tribe of Western Shoshone Indians of Nevada (Four constituent bands: Battle Mountain Band; Elko Band; South Fork Band; and Wells Band); Utu Utu Gwaitu Paiute Tribe of the Benton Paiute Reservation, California; Walker River Paiute Tribe of the Walker River Reservation, Nevada; Winnemucca Indian Colony of Nevada; Yerington Paiute Tribe of the Yerington Colony & Campbell Ranch, Nevada; and the Yomba Shoshone Tribe of the Yomba Reservation, Nevada have priority for disposition of the human remains described in this notice.

Claims for Disposition

Written claims for disposition of the human remains in this notice must be sent to the appropriate official identified in this notice under ADDRESSES. If no claim for disposition is received by August 14, 2026, the human remains in this notice will become unclaimed human remains. Claims for disposition may be submitted by:

1. Any lineal descendant, Indian Tribe, or Native Hawaiian organization identified in this notice.

2. Any lineal descendant, Indian Tribe, or Native Hawaiian organization not identified in this notice who shows that they have priority for disposition.

Disposition of the human remains in this notice may occur on or after September 15, 2025. If competing claims for disposition are received, the BLM must determine the most appropriate claimant prior to disposition. Claims for joint disposition of the human remains are considered a single claim and not competing claims. The BLM is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: July 31, 2025.
Melanie O'Brien,
Manager, National NAGPRA Program.

[FR Doc. 2025-15399 Filed 8-13-25; 8:45 am]

BILLING CODE 4312-52-P